DEPARTMENT OF COMMERCE

International Trade Administration

(A-580-816)

Corrosion Resistant Carbon Steel Flat Products from Korea: Extension of Time Limits for the Final Results of Antidumping Administrative Review and New Shipper Review

AGENCY: Import Administration, International Trade Administration, Department of Commerce.

EFFECTIVE DATE: October 29, 2004.

FOR FURTHER INFORMATION CONTACT: Mark Young at (202) 482-6397, AD/CVD Operations, Office III, Import Administration, International Trade Administration, U.S. Department of Commerce, 14th Street and Constitution Ave, NW, Washington, DC 20230.

SUPPLEMENTARY INFORMATION:

Statutory Time Limits

Section 751(a)(3)(A) of the Tariff Act of 1930, as amended (the Act), requires the Department to issue (1) the preliminary results of a review within 245 days after the last day of the month in which occurs the anniversary of the date of publication of an order or finding for which a review is requested, and (2) the final results within 120 days after the date on which the preliminary results are published. However, if it is not practicable to complete the review within that time period, section 751(a)(3)(A) of the Act allows the Department to extend the time limit for the preliminary results to a maximum of 365 days and the final results to a maximum of 180 days (or 300 days if the Department does not extend the time limit for the preliminary results) from the date of the publication of the preliminary results. See also 19 CFR 351.213(h)(2).

Background

On September 30, 2003, the Department published a notice of initiation of the administrative review of the antidumping duty order on corrosion resistant carbon steel flat products from Korea, covering the period August 1, 2002 to July 31, 2003 (68 FR 56262). On October 3, 2003, the Department published a notice of initiation of new shipper antidumping duty review on the aforementioned subject merchandise and covering the same period (68 FR 57423). On March 4, 2004, the Department fully extended the preliminary results of the aforementioned administrative review by 120 days (69 FR 10203). On March 24, 2004, the Department fully extended the new shipper review by 120 days (69 FR 13812). On April 15, 2004, the Department aligned the new shipper review with the current administrative review, further extending the preliminary results of the new shipper review until August 30, 2004. See Memorandum to the File from Paul Walker, re: Request for Alignment of Annual and New Shipper Reviews, a public document on file in the Central Records Unit room B099 in the main Commerce Building. On September 7, 2004, the Department published the preliminary results of its reviews (69 FR 54101). The final results of these reviews are currently due no later than January 5, 2005.

Extension of Final Results of Reviews

We determine that it is not practicable to complete the final results of these reviews within the original time limit, because the Department recently decided that it is necessary to conduct verifications of one or more of the respondents in the abovementioned reviews. Thus, the Department needs additional time to complete these verifications and incorporate its findings in the final results of these reviews. Therefore, we are extending the deadline for the final results of the above-referenced reviews until March 7, 2005.

This extension is in accordance with section 751(a)(3)(A) of the Act and 19 CFR 351.213(h)(2).

Dated: October 25, 2004.
Jeffrey A. May,
Deputy Assistant Secretary for Import Administration.

[FR Doc. E4-2916 Filed 10-28-04; 8:45 am]

BILLING CODE 3510-DS-S